DEPARTMENT OF COMMERCE

International Trade Administration

Notice of Scope Rulings

AGENCY: Enforcement and Compliance, International Trade Administration, Department of Commerce.

SUMMARY: The U.S. Department of Commerce (Commerce) hereby publishes a list of scope rulings made during the period April 1, 2025, through June 30, 2025. We intend to publish future lists after the close of the next calendar quarter.

DATES: Applicable August 22, 2025.

FOR FURTHER INFORMATION CONTACT: Brenda E. Brown, AD/CVD Operations, Customs Liaison Unit, Enforcement and Compliance, International Trade Administration, U.S. Department of Commerce, 1401 Constitution Avenue NW, Washington, DC 20230; telephone: 202-482-4735.

SUPPLEMENTARY INFORMATION:

Background

Commerce regulations provide that it will publish in the Federal Register a list of scope rulings on a quarterly basis.¹ Our most recent notification of scope rulings was published on April 29, 2025.² This current notice covers all scope rulings made by Enforcement and Compliance between April 1, 2025, and June 30, 2025.

¹ See 19 CFR 351.225(o).

² See Notice of Scope Rulings, 90 FR 17764 (April 29, 2025).

Final Scope Rulings

Italy

A-475-839: Forged Steel Fittings From Italy

Requestor: National Oilwell Varco, L.P. (NOV). The Hubs of the PFT Hub & Cap System, imported by NOV, are excluded from the scope of the antidumping duty order on forged steel fittings from Italy because the Hub is a butt weld fitting, which is excluded from the order. In addition, the Caps of the System, imported by NOV, are covered by the plain language of the Order and do not meet any of the exclusions contained in the scope: June 24, 2025.

People's Republic of China (China)

A-570-967 and C-570-968: Aluminum Extrusions From China

Requestor: Utility Transportation Carts, Inc. (UTC). On April 3, 2025, Commerce rescinded the scope inquiry on UTC's flatbed utility carts because UTC did not provide evidence that the product was imported into the United States or that the product was commercially produced and sold in any other market: April 3, 2025.

A-570-967 and C-570-968: Aluminum Extrusions From China

Requestor: HTM MBS LLC (MBS). The screw covers imported by MBS are covered by the scope of the AD and CVD orders on aluminum extrusions from China because the aluminum extrusion components satisfy the general scope language, the record shows that the screw covers are sold as two separate parts, and the screw covers function more as an unfinished subassembly than an actual finished product: June 30, 2025.

A-570-108 and C-570-109: Ceramic Tiles From China

Requestor: WJC LLC (WJC). Ceramic roofing tiles imported together as a kit by WJC LLC are not covered by the scope of the AD and CVD orders on ceramic tile from China because the tiles are imported together as a complete roof kit: May 23, 2025.

A-570-082 and C-570-083: Certain Steel Wheels (22.5 and 24.5 Inches in Diameter) From China

Requestor: Accuride Cooperation and Maxion Wheels USA LLC. On May 6, 2025, Commerce rescinded the scope inquiry because the record does not substantiate extant production of certain steel wheels with a diameter of 22.5 and 24.5 inches from China and the evidentiary basis for the initiation of the scope inquiry is insufficiently supported: May 6, 2025.

A-570-985: Xanthan Gum From China

Requestor: Gum Products International, Inc. GPI Xantech DF40 and GPI Xantech DF40-D are covered by the scope of the AD order on xanthan gum from China because xanthan gum is not substantially transformed when used to produce GPI's products and GPI's products have a country of origin of China: May 20, 2025.

A-570-985: Xanthan Gum From China

Requestor: Gum Products International, Inc. GPI Purexan 80AN, GPI Purexan 200AN and GPI Quickxan 70 are covered by the scope of the AD order on xanthan gum from China because xanthan gum is not substantially transformed when used to produce GPI's products and GPI's products have a country of origin of China: May 20, 2025.

A-570-016 and C-570-017: Passenger Vehicle Light Truck Tires From China

Requestor: Logistical Resource Development Inc. (LRD). The T-Type tires produced by Shandong Linglong Tyre Co., Ltd and imported from China by LRD are not covered by the scope of the AD and CVD orders on passenger vehicle light truck tires from China because they lack a “P” or “LT” prefix and their numerical size designations are not listed in the “P” or “LT” tables of the Tire and Rim Association Year Book. In addition, their sizes are not of a size that fits cars or light trucks: May 6, 2025.

Preliminary Determinations

A-570-117 and C-570-118: Wood Mouldings and Millwork Products From China

Requestor: Blinds to Go (US), Inc. (BTG). Certain feedstock for window blinds imported by BTG are preliminarily determined to not be covered by the scope of the AD and CVD orders on wood mouldings and millwork products from China because such feedstock is intended exclusively for window blinds rather than for architectural accessories or building uses: April 11, 2025.

Notification to Interested Parties

Interested parties are invited to comment on the completeness of this list of completed scope inquiries. Any comments should be submitted to the Deputy Assistant Secretary for AD/CVD Operations, Enforcement and Compliance, International Trade Administration, via email to CommerceCLU@trade.gov.

This notice is published in accordance with 19 CFR 351.225(o).

Dated: August 19, 2025.
Scot Fullerton,
Acting Deputy Assistant Secretary for Antidumping and Countervailing Duty Operations.

[FR Doc. 2025-16099 Filed 8-21-25; 8:45 am]

BILLING CODE 3510-DS-P